DEPARTMENT OF ENERGY

Federal Energy Regulatory Commission

Combined Notice of Filings #1

Take notice that the Commission received the following electric rate filings:

Docket Numbers: ER10-1852-037; ER10-1852-035.

Applicants: Florida Power & Light Company.

Description: Supplement to February 27, 2020 and May 19, 2020 Notification of Change in Status of Florida Power & Light Company.

Filed Date: 8/20/20.

Accession Number: 20200820-5152.

Comments Due: 5 p.m. ET 9/10/20.

Docket Numbers: ER18-1150-003.

Applicants: Northwest Ohio Wind, LLC.

Description: Updated Market Power Analysis for the Northeast Region of Northwest Ohio Wind, LLC.

Filed Date: 8/21/20.

Accession Number: 20200821-5068.

Comments Due: 5 p.m. ET 9/11/20.

Docket Numbers: ER20-936-000.

Applicants: Entergy Arkansas, LLC.

Description: Entergy Arkansas, LLC. submits tariff filing per 35.19a(b): Refund Report_Arkansas Nuclear One Unit 2 to be effective N/A.

Filed Date: 8/21/20.

Accession Number: 20200821-5126.

Comments Due: 5 p.m. ET 9/11/20.

Docket Numbers: ER20-1453-002.

Applicants: Midcontinent Independent System Operator, Inc.

Description: Tariff Amendment: 2020-08-21_Amendment to Schedule 17 Revisions to be effective 6/1/2020.

Filed Date: 8/21/20.

Accession Number: 20200821-5098.

Comments Due: 5 p.m. ET 9/11/20.

Docket Numbers: ER20-1722-000.

Applicants: Spring Valley Wind LLC.

Description: Second Supplement to April 30, 2020 Notice of Change in Status of the Pattern MBR Entities.

Filed Date: 8/20/20.

Accession Number: 20200820-5160.

Comments Due: 5 p.m. ET 9/10/20.

Docket Numbers: ER20-1974-001.

Applicants: Duke Energy Carolinas, LLC.

Description: Compliance filing: DEC- Lockhart Compliance Filing (July 30, 2020 Order) to be effective 6/1/2020.

Filed Date: 8/20/20.

Accession Number: 20200820-5115.

Comments Due: 5 p.m. ET 9/10/20.

Docket Numbers: ER20-2603-000; ER20-2597-000.

Applicants: Skeleton Creek Wind, LLC, Soldier Creek Wind, LLC.

Description: Amendment to August 3, 2020, et al. Skeleton Creek Wind, LLC, et al. tariff filings.

Filed Date: 8/19/20.

Accession Number: 20200819-5111.

Comments Due: 5 p.m. ET 8/31/20.

Docket Numbers: ER20-2709-000.

Applicants: Idaho Power Company.

Description: § 205(d) Rate Filing: Revised Market Rate Power Sale Tariff to be effective 10/29/2020.

Filed Date: 8/20/20.

Accession Number: 20200820-5110.

Comments Due: 5 p.m. ET 9/10/20.

Docket Numbers: ER20-2710-000.

Applicants: Duke Energy Florida, LLC.

Description: § 205(d) Rate Filing: DEF—Reimbursement Agreement to be effective 11/1/2020.

Filed Date: 8/20/20.

Accession Number: 20200820-5123.

Comments Due: 5 p.m. ET 9/10/20.

Docket Numbers: ER20-2711-000.

Applicants: Midcontinent Independent System Operator, Inc., Northern States Power Company, a Minnesota corporation.

Description: § 205(d) Rate Filing: 2020-08-20_SA 2692 Big Stone South-Brookings 1st Rev T-T IA (NSP-OTP) to be effective 8/22/2020.

Filed Date: 8/21/20.

Accession Number: 20200821-5031.

Comments Due: 5 p.m. ET 9/11/20.

Docket Numbers: ER20-2712-000.

Applicants: Southwest Power Pool, Inc.

Description: § 205(d) Rate Filing: City Utilities of Springfield, Missouri revisions to Formula Rate and Protocols to be effective 11/1/2020.

Filed Date: 8/21/20.

Accession Number: 20200821-5039.

Comments Due: 5 p.m. ET 9/11/20.

Docket Numbers: ER20-2713-000.

Applicants: El Paso Electric Company.

Description: § 205(d) Rate Filing: Service Agreement No. 328, Amended LGIA with TEP to be effective 8/18/2020.

Filed Date: 8/21/20.

Accession Number: 20200821-5116.

Comments Due: 5 p.m. ET 9/11/20.

Docket Numbers: ER20-2714-000.

Applicants: Headwaters Wind Farm II LLC.

Description: Baseline eTariff Filing: Market-Based Rate Application to be effective 8/22/2020.

Filed Date: 8/21/20.

Accession Number: 20200821-5118.

Comments Due: 5 p.m. ET 9/11/20.

Docket Numbers: ER20-2715-000.

Applicants: Stored Solar, LLC.

Description: Baseline eTariff Filing: baseline new to be effective 8/24/2020.

Filed Date: 8/21/20.

Accession Number: 20200821-5119.

Comments Due: 5 p.m. ET 9/11/20.

Docket Numbers: ER20-2716-000.

Applicants: Duke Energy Carolinas, LLC.

Description: § 205(d) Rate Filing: DEC-WCU—Revisions to Rate Schedule No. 338 to be effective 6/1/2020.

Filed Date: 8/21/20.

Accession Number: 20200821-5123.

Comments Due: 5 p.m. ET 9/11/20.

Take notice that the Commission received the following electric securities filings:

Docket Numbers: ES20-53-000.

Applicants: Montana-Dakota Utilities Co.

Description: Application Under Section 204 of the Federal Power Act for Authorization to Issue Securities, et al. of Montana-Dakota Utilities Co.

Filed Date: 8/21/20.

Accession Number: 20200821-5069.

Comments Due: 5 p.m. ET 9/11/20.

Take notice that the Commission received the following qualifying facility filings:

Docket Numbers: QF20-1298-000.

Applicants: Architect of the Capitol.

Description: Form 556 of Architect of the Capitol.

Filed Date: 8/20/20.

Accession Number: 20200820-5158.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2020.
Kimberly D. Bose,
Secretary.

[FR Doc. 2020-18924 Filed 8-27-20; 8:45 am]

BILLING CODE 6717-01-P